DEPARTMENT OF ENERGY

Federal Energy Regulatory Commission

[RM19-18-000]

Formal Requirements for Filings in Proceedings Before the Commission; Notice Regarding Effective Date

On August 27, 2019, the Commission issued a Final Rule in Docket No. RM19-18-000 requiring that deliveries of filings and submissions, other than by the United States Postal Service, be sent to an off-site facility ¹ for security screening and processing.² The Final Rule indicated that the new regulation would take effect 60 days after the date of publication of the Final Rule in the Federal Register. On October 11, 2019, the Secretary issued a notice, stating that the effective date for the Final Rule was postponed indefinitely to ensure that the public and the Commission make an effective transition to utilizing the off-site facility. This notice hereby announces that the Final Rule will become effective on July 1, 2020.

¹ Health and Human Services, 12225 Wilkins Avenue, Rockville, Maryland 20852.

² Formal Requirements for Filings in Proceedings Before the Commission, 168 FERC ¶ 61,120 (2019) (Final Rule).

Dated: June 23, 2020.
Kimberly D. Bose,
Secretary.

[FR Doc. 2020-13917 Filed 6-26-20; 8:45 am]

BILLING CODE 6717-01-P